FEDERAL MARITIME COMMISSION

Ocean Transportation Intermediary License Revocations and Surrenders

Pursuant to the Commission's direct rule (79 FR 56522, September 22, 2014), beginning October 20, 2014, these notices will no longer be posted in the Federal Register. After October 20, 2014, this information will be available on the Commission's Web site at http://www.fmc.gov, see OTI Licensing Updates.

The Commission gives notice that the following Ocean Transportation Intermediary licenses have been revoked or surrendered for the reason indicated pursuant to section 19 of the Shipping Act of 1984 (46 U.S.C. 40101) effective on the date shown.

License No.: 018655N.

Name: Triship Global Logistics, Inc.

Address: 7400 SW 50th Terrace, Suite 207, Miami, FL 33155.

Date Revoked: October 2, 2014.

Reason: Failed to maintain a valid bond.

License No.: 019581N.

Name: Four Seasons Logistics Inc.

Address: 22-30 119th Street, College Point, NY 11356.

Date Revoked: October 3, 2014.

Reason: Failed to maintain a valid bond.

Sandra L. Kusumoto,
Director, Bureau of Certification and Licensing.

[FR Doc. 2014-25122 Filed 10-21-14; 8:45 am]

BILLING CODE 6730-01-P